DEPARTMENT OF TRANSPORTATION

Pipeline and Hazardous Materials Safety Administration

[Docket No. PHMSA-2013-0126, Notice No. 3-8]

Safety Advisory: Compressed Gas Cylinders That Have Not Been Tested Properly

AGENCY: Pipeline and Hazardous Materials Safety Administration (PHMSA), DOT.

ACTION: Safety Advisory Notice.

SUMMARY: PHMSA has concluded that Shasta Fire Equipment, Inc. of Redding, CA, certified DOT-specification, exemption, and special permit cylinders with Requalification Identification Number (RIN) D183, between March 6, 2013 and May 6, 2013, without performing proper requalification testing to verify the suitability of the cylinders for continued service, as required by the Hazardous Materials Regulations (HMR; 49 CFR Parts 171-180).

FOR FURTHER INFORMATION CONTACT: PHMSA, DOT, 3401 Centrelake Drive, Suite 550B, Ontario, CA 91761, Telephone (909) 522-1901, Ms. Shelly Negrete, PHMSA Investigator; or Shasta Fire Equipment, Inc., 3092 Crossroads Drive, Redding, CA 96003, Telephone (530) 223-2492, Mr. Danniel Hoose, President.

SUPPLEMENTARY INFORMATION: Shasta Fire Equipment, Inc. marked DOT-specification 3AA, 3AL, 3HT, and exemption (DOT-E) and special permit (DOT-SP) cylinders, with RIN D183 between March 6, 2013 and May 6, 2013, certifying that they were successfully requalified accordance with HMR. After an inspection of Shasta Fire Equipment Inc., PHMSA has concluded that during this period, Shasta Fire Equipment, Inc. failed to requalify cylinders in compliance with the HMR. As a result, any tests performed during this period were unreliable and invalid.

Cylinders that have not been properly requalified in accordance with the HMR pose an unreasonable safety risk. Cylinders that are not properly tested may not have the structural integrity to contain hazardous materials safely under pressure during normal transportation and use and may leak or rupture, resulting in property damage, injuries, or death. The affected cylinders are used primarily in oxygen service but may also be used for other hazardous materials.

Additionally, it is a violation of the HMR to ship hazardous materials in a packaging or container that does not conform to requalification testing requirements. Shipping or transporting hazardous materials in a cylinder that does not meet the requirements of the HMR is unauthorized, unless and until the cylinder passes proper testing in accordance with the HMR.

If you identify a cylinder that is subject to this notice, you are advised to remove it from service and submit it to an authorized retester for proper testing. A list of retesters that PHMSA authorizes to perform requalification testing on DOT-specification and special permit cylinders is available on PHMSA's Web site under “Cylinder Requalifiers” at http://www.phmsa.dot.gov/hazmat/permits-approvals/pressure-vessels. Any cylinder purchased from or serviced by Shasta Fire Equipment, Inc. and marked with RIN D183 between March 6, 2013 and the date of this notice must be retested in accordance with the HMR requalification requirements before it is used. Cylinders described in this safety advisory that are filled with an atmospheric gas should be vented or otherwise safely discharged. Cylinders that are filled with a material other than an atmospheric gas should not be vented but should be safely discharged by authorized personnel.

Issued in Washington, DC, on May 30, 2013.
Magdy El-Sibaie,
Associate Administrator for Hazardous Materials Safety, Pipeline and Hazardous Materials Safety Administration.

[FR Doc. 2013-13222 Filed 6-4-13; 8:45 am]

BILLING CODE 4910-60-P